DEPARTMENT OF AGRICULTURE

[Docket No. USDA-2020-0002]

Notice of Request for Public Comment on Updates to Technical Guidelines for Quantifying Greenhouse Gas (GHG) Emissions and Carbon Sequestration at the Entity-scale for Agriculture and Forestry

AGENCY: Office of the Chief Economist, U.S. Department of Agriculture.

ACTION: Request for public comment; extension of comment period.

SUMMARY: We are extending the comment period for our notice seeking input from the public as we prepare an update to our technical guidelines and science-based methods to quantify greenhouse gas sources and sinks from the agriculture and forest sectors at the entity-scale This action will allow interested persons additional time to prepare and submit comments.

DATES: The comment period of the request for information, published March 4, 2020 at 85 FR 12760 is extended until May 15, 2020. To be assured of consideration, comments must be received on or before May 15, 2020.

ADDRESSES: Comments submitted in response to this notice may be submitted online via the Federal eRulemaking Portal. Go to http://www.regulations.gov and search for the Docket number USDA-2020-0002. Follow the online instructions for submitting comments. All comments received will be posted without change and publicly available on www.regulations.gov.

FOR FURTHER INFORMATION CONTACT: William Hohenstein, Director, USDA Office of Energy and Environmental Policy, telephone: 202-720-6698, email: William.hohenstein@usda.gov.

SUPPLEMENTARY INFORMATION: On March 4, 2020, we published in the Federal Register (85 FR 12760-12761, Docket No. USDA-2020-0002) a notice seeking input from the public as we prepare an update to our technical guidelines and science-based methods to quantify greenhouse gas sources and sinks from the agriculture and forest sectors at the entity-scale. Public input will help to ensure that relevant information and data are considered, improve the rigor of the guidelines, and enhance the usability of the methods in the updated technical guidelines.

Comments on the notice were required to be received on or before April 20, 2020. We are extending the comment period on Docket No. USDA-2020-0002 until May 15, 2020. This action will allow interested persons additional time to prepare and submit comments.

Robert Johansson,
Chief Economist.

[FR Doc. 2020-08472 Filed 4-17-20; 8:45 am]

BILLING CODE 3410-GL-P